COMMISSION ON CIVIL RIGHTS

Sunshine Act Notice—AMENDED

AGENCY: United States Commission on Civil Rights.

ACTION: Notice of meeting.

DATE AND TIME: Friday, November 19, 2010; 8:45 a.m. EST.

PLACE: 624 Ninth Street, NW., Room 540, Washington, DC 20425.

Meeting Agenda

This meeting is open to the public.

I. Approval of Agenda

II. Program Planning

• Approval of New Black Panther Party Enforcement Report

• Motion Regarding Healthcare Disparities Report Commissioner Statements & Rebuttals

• Consideration of Findings and Recommendations for Briefing Report on English-Only in the Workplace

• Update on FY 2011 Cy Pres Enforcement Report & Consideration of Project Outline and Discovery Plan

• Consideration of Policy on Commissioner Statements and Rebuttals

• Discussion of Possible Briefing Topics for FY 2011

• Update on Status of Briefing on Disparate Impact in School Discipline Policies

• Update on Sex Discrimination in Liberal Arts College Admissions—Some of the discussion of this agenda item may be held in closed session

• Update on Clearinghouse Project

III. State Advisory Committee Issues

• Kentucky SAC

• Maryland SAC

• Vermont SAC

• Wisconsin SAC

• Update on Status of Remaining SACs to Recharter

IV. Management & Operations

• Expiration of Commissioner Terms

V. Approval of Minutes of October 8 Meeting

VI. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: November 17, 2010.
David Blackwood,
General Counsel.

[FR Doc. 2010-29347 Filed 11-17-10; 11:15 am]

BILLING CODE 6335-01-P